DEPARTMENT OF COMMERCE

International Trade Administration

[A-570-970]

Multilayered Wood Flooring From the People's Republic of China: Preliminary Results of Antidumping Duty Administrative Review; 2013-2014

AGENCY: Enforcement and Compliance, International Trade Administration, Department of Commerce.

SUMMARY: The Department of Commerce (“the Department”) is conducting an administrative review of the antidumping duty order on multilayered wood flooring (“MLWF”) from the People's Republic of China (“PRC”). The period of review (“POR”) is December 1, 2013, through November 30, 2014. The review covers two mandatory respondents, Fine Furniture (Shanghai) Limited (“Fine Furniture”) and Dalian Penghong Floor Products Co., Ltd. (“Dalian Penghong”). We preliminarily find that both respondents made sales of subject merchandise at less than normal value (“NV”).

DATES: Effective date: January 8, 2016.

FOR FURTHER INFORMATION CONTACT: Lilit Astvatsatrian or William Horn AD/CVD Operations, Office IV, Enforcement and Compliance, International Trade Administration, Department of Commerce, 1401 Constitution Avenue NW., Washington, DC 20230; telephone: (202) 482-6412 and (202) 482-2615.

SUPPLEMENTARY INFORMATION:

Scope of the Order

The merchandise covered by the order includes MLWF, subject to certain exceptions.¹ Imports of the subject merchandise are provided for under the following subheadings of the Harmonized Tariff Schedule of the United States (“HTSUS”): ”): 4412.31.0520; 4412.31.0540; 4412.31.0560; 4412.31.2510; 4412.31.2520; 4412.31.3175; 4412.31.4040; 4412.31.4050; 4412.31.4060; 4412.31.4070; 4412.31.4075; 4412.31.4080; 4412.31.5125; 4412.31.5135; 4412.31.5155; 4412.31.5165; 4412.31.5175; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; and 9801.00.2500.

¹ See Memorandum from Christian Marsh, Deputy Assistant Secretary for Antidumping and Countervailing Duty Operations to Paul Piquado, Assistant Secretary for Enforcement and Compliance, regarding “Decision Memorandum for Preliminary Results of 2013-2014 Antidumping Duty Administrative Review: Multilayered Wood Flooring from the People's Republic of China,” (“Preliminary Decision Memorandum”), issued and dated concurrently with this notice, for a complete description of the Scope of the Order.

While HTSUS subheadings are provided for convenience and customs purposes, the written description of the subject merchandise is dispositive.

Methodology

The Department has conducted this review in accordance with section 751(a)(1)(B) of the Tariff Act of 1930, as amended (“the Act”). Export prices and constructed export prices have been calculated in accordance with section 772 of the Act. Because the PRC is a non-market economy (“NME”) within the meaning of section 771(18) of the Act, normal value (“NV”) has been calculated in accordance with section 773(c) of the Act.

For a full description of the methodology underlying our conclusions, please see the Preliminary Decision Memorandum, hereby adopted by this notice. The Preliminary Decision Memorandum is a public document and is on file electronically via Enforcement and Compliance's Antidumping and Countervailing Duty Centralized Electronic Service System (“ACCESS”). ACCESS is available to registered users at http://access.trade.gov. The Preliminary Decision Memorandum is also available in the Central Records Unit, Room B8024 of the main Department of Commerce building. In addition, a complete version of the Preliminary Decision Memorandum can be accessed directly at http://enforcement.trade.gov/frn/index.html. The signed Preliminary Decision Memorandum and the electronic versions of the Preliminary Decision Memorandum are identical in content.

Affiliation and Collapsing

Based on the evidence presented in Dalian Penghong's questionnaire responses, we preliminarily find (1) that Dalian Penghong is affiliated with a certain glue producer within the meaning of sections 771(33)(A), (F), and (G) of the Act; and (2) that Dalian Penghong and Dalian Shumaike Floor Manufacturing Co., Ltd. (“Shumaike”) are affiliated within the meaning of section 773(33)(F) of the Act. Additionally, we are preliminarily treating Dalian Penghong and Shumaike as a single entity for antidumping duty purposes, within the meaning of 19 CFR 351.401(f), because we find that those two affiliated companies have a high level of common ownership, production facilities for similar or identical products that would not require substantial retooling to restructure manufacturing priorities, and that there is a significant potential for manipulation of price or production.²

² See Dalian Penghong Floor Products Co., Ltd., Preliminary Affiliation and Single Entity Memorandum dated concurrently with this Notice.

Preliminary Results of Review

The Department preliminarily finds that nineteen companies subject to this review did not establish eligibility for a separate rate. As such, we preliminarily determine they are part of the PRC-wide entity.³ Because no party requested a review of the PRC-wide entity and the Department no longer considers the PRC-wide entity as an exporter conditionally subject to administrative reviews,⁴ we did not conduct a review of the PRC-wide entity. Thus, the rate for the PRC-wide entity is not subject to change as a result of this review.

³ The following companies were named in the Initiation of Antidumping and Countervailing Duty Administrative Reviews, 80 FR 6041 (February 4, 2014), but did not submit a certification of no shipment, separate rate application or separate rate certification; therefore they are part of the PRC-wide entity: Anhui Suzhou Dongda Wood Co., Ltd.; Baiying Furniture Manufacturer Co., Ltd.; Cheng Hang Wood Co., Ltd.; Dalian Huilong Wooden Products Co., Ltd.; Dalian Jiuyuan Wood Industry Co., Ltd.; Fu Lik Timber (HK) Co., Ltd.; Guangzhou Homebon Timber Manufacturing Co., Ltd.; HaiLin XinCheng Wooden Products, Ltd.; Hangzhou Dazhuang Floor Co., Ltd (dba Dasso Industrial Group Co., Ltd); Linyi Anying Wood Co., Ltd.; Qingdao Barry Flooring Co., Ltd. (Qingdao Barry); Shanghai Anxin (Weiguang) Timber Co., Ltd.; Vicwood Industry (Suzhou) Co., Ltd.; Xiamen Yung De Ornament Co., Ltd.; Yingyi-Nature (Kunshan) Wood Industry Co., Ltd.; Zhejiang AnJi XinFeng Bamboo & Wood Industry Co., Ltd.; Zhejiang Desheng Wood Industry Co., Ltd.; Zhejiang Haoyun Wooden Co., Ltd.; and Zhejiang Shiyou Timber Co., Ltd. We note that Qingdao Barry is currently subject to a new shipper review that covers the same POR as this administrative review. The only sale(s) made by Qingdao Barry during that period are being reviewed in the new shipper review. As a result, the Department may rescind this administrative review as to Qingdao Barry in the final results if there are no reviewable entries that remain subject to this administrative review.

⁴ See Antidumping Proceedings: Announcement of Change in Department Practice for Respondent Selection in Antidumping Duty Proceedings and Conditional Review of the Nonmarket Economy Entity in NME Antidumping Duty Proceedings, 78 FR 65963, 65969-70 (November 4, 2013).

For companies subject to this review that have established their entitlement to a separate rate, the Department preliminarily determines that the following weighted-average dumping margins exist for the POR from December 1, 2013, through November 30, 2014: ⁵

⁵ In addition to the companies listed in the table, certain companies certified that they did not ship subject merchandise to the United States during the POR. The Department confirmed these certifications of no shipments with U.S. Customs and Border Protection (“CBP”); therefore, the following companies will maintain their rate from the most recent segment in which they participated: Changbai Mountain Development and Protection Zone Hongtu Wood Industrial Co., Ltd.; Dalian T-Boom Wood Products Co., Ltd.; Hangzhou Zhengtian Industrial Co., Ltd.; Jiangsu Guyu International Trading Co., Ltd.; Jiangsu Mingle Flooring Co., Ltd.; Linyi Bonn Flooring Manufacturing Co., Ltd.; Shanghai Eswell Timber Co., Ltd.; Shenyang Senwang Wooden Industry Co., Ltd.; Tongxiang Jisheng Import and Export Co., Ltd.; and Zhejiang Fuerjia Wooden Co., Ltd.

Exporter | Weighted-average dumping margin
Fine Furniture (Shanghai) Limited | 13.34
Dalian Penghong Floor Products Co., Ltd/Dalian Shumaike Floor Manufacturing Co., Ltd ⁶ | 0.00
A&W (Shanghai) Woods Co., Ltd | 13.34
Anhui Longhua Bamboo Product Co., Ltd | 13.34
Armstrong Wood Products (Kunshan) Co., Ltd | 13.34
Baishan Huafeng Wood Product Co., Ltd | 13.34
Benxi Wood Company | 13.34
Changzhou Hawd Flooring Co., Ltd | 13.34
Chinafloors Timber (China) Co., Ltd | 13.34
Dalian Dajen Wood Co., Ltd | 13.34
Dalian Huade Wood Product Co., Ltd | 13.34
Dalian Kemian Wood Industry Co., Ltd | 13.34
Dalian Xinjinghua Wood Co., Ltd | 13.34
Dasso Industrial Group Co., Ltd | 13.34
Dongtai Fuan Universal Dynamics, LLC | 13.34
Dunhua City Dexin Wood Industry Co., Ltd | 13.34
Dunhua City Hongyuan Wood Industry Co., Ltd | 13.34
Dun Hua City Jisen Wood Industry Co., Ltd | 13.34
Dunhua City Wanrong Wood Industry Co., Ltd | 13.34
Dun Hua Sen Tai Wood Co., Ltd | 13.34
Dunhua Shengda Wood Industry Co., Ltd | 13.34
Fusong Jinlong Wooden Group Co., Ltd | 13.34
Fusong Qianqiu Wooden Product Co., Ltd | 13.34
GTP International Ltd | 13.34
Guangdong Yihua Timber Industry Co., Ltd | 13.34
Guangzhou Panyu Kangda Board Co., Ltd | 13.34
Guangzhou Panyu Southern Star Co., Ltd | 13.34
HaiLin LinJing Wooden Products, Ltd | 13.34
Hangzhou Hanje Tec Co., Ltd | 13.34
Henan Xingwangjia Technology Co., Ltd | 13.34
Hunchun Forest Wolf Wooden Industry Co., Ltd | 13.34
Hunchun Xingjia Wooden Flooring Inc | 13.34
Huzhou Chenghang Wood Co., Ltd | 13.34
Huzhou Fulinmen Imp. & Exp. Co., Ltd | 13.34
Huzhou Fuma Wood Co., Ltd ⁷ | 13.34
Huzhou Jesonwood Co., Ltd | 13.34
Huzhou Ruifeng Imp. & Exp. Co., Ltd | 13.34
Huzhou Sunergy World Trade Co., Ltd | 13.34
Jiafeng Wood (Suzhou) Co., Ltd ⁸ | 13.34
Jiangsu Senmao Bamboo and Wood Industry Co., Ltd | 13.34
Jiangsu Simba Flooring Co., Ltd | 13.34
Jiangsu Yuhui International Trade Co., Ltd | 13.34
Jiashan HuiJiaLe Decoration Material Co., Ltd | 13.34
Jiaxing Hengtong Wood Co., Ltd | 13.34
Jilin Forest Industry Jinqiao Flooring Group Co., Ltd | 13.34
Jilin Xinyuan Wooden Industry Co., Ltd | 13.34
Karly Wood Product Limited | 13.34
Kemian Wood Industry (Kunshan) Co., Ltd | 13.34
Les Planchers Mercier, Inc | 13.34
Linyi Youyou Wood Co., Ltd | 13.34
MuDanJiang Bosen Wood Industry Co., Ltd | 13.34
Nakahiro Jyou Sei Furniture (Dalian) Co., Ltd | 13.34
Nanjing Minglin Wooden Industry Co., Ltd | 13.34
Ningbo Tianyi Bamboo & Wood Products Co., Ltd | 13.34
Pinge Timber Manufacturing (Zhejiang) Co., Ltd | 13.34
Power Dekor Group Co., Ltd | 13.34
Puli Trading Limited | 13.34
Shanghai Lairunde Wood Co., Ltd | 13.34
Shanghai Lizhong Wood Products Co., Ltd/The Lizhong Wood Industry Limited Company of Shanghai ⁹ | 13.34
Shanghai New Sihe Wood Co., Ltd | 13.34
Shanghai Shenlin Corporation | 13.34
Shenyang Haobainian Wooden Co., Ltd | 13.34
Shenzhenshi Huanwei Woods Co., Ltd | 13.34
Sino-Maple (JiangSu) Co., Ltd | 13.34
Suzhou Dongda Wood Co., Ltd | 13.34
Xuzhou Antop International Trade Co., Ltd | 13.34
Xuzhou Shenghe Wood Co., Ltd | 13.34
Yekalon Industry, Inc | 13.34
Yixing Lion-King Timber Industry Co., Ltd | 13.34
Zhejiang Biyork Wood Co., Ltd | 13.34
Zhejiang Dadongwu Green Home Wood Co., Ltd | 13.34
Zhejiang Fudeli Timber Industry Co., Ltd | 13.34
Zhejiang Fuma Warm Technology Co., Ltd | 13.34
Zhejiang Longsen Lumbering Co., Ltd | 13.34
Zhejiang Shuimojiangnan New Material Technology Co., Ltd | 13.34

⁶ We note that the record reflects that Dalian Penghong and Shumaike were not affiliated until April 2014 (i.e., approximately 4 months into the POR). Because the record does not support treating Dalian Penghong as a single entity with Shumaike prior to the date of affiliation (i.e., April 2014), separate assessment rates will apply for the period from 11/30/2013 through 3/31/2014. In particular, the assessment rate for any entries by Shumaike will be 13.34 percent (the rate applicable to unexamined separate rate companies) and the assessment rate for any entries by Dalian Penghong will be 0.00.

⁷ On July 13, 2015, the Department determined that Zhejiang Fuma Warm Technology Co., Ltd. is the successor-in-interest to Huzhou Fuma Wood Co., Ltd. See Multilayered Wood Flooring From the People's Republic of China: Final Results of Changed Circumstances Review, 80 FR 39998 (July 13, 2015). Because Huzhou Fuma Wood Co., Ltd. no longer exists as a legal entity, the rate assigned to Huzhou Fuma Wood Co., Ltd. will apply for assessment purposes only.

⁸ On November 16, 2015, the Department determined that Sino-Maple (JiangSu) Co., Ltd. is the successor-in-interest to Jiafeng Wood (Suzhou) Co., Ltd. See Multilayered Wood Flooring From the People's Republic of China: Final Results of Changed Circumstances Review, 80 FR 70756 (November 16, 2015). Because Jiafeng Wood (Suzhou) Co., Ltd. no longer exists as a legal entity, the rate assigned to Jiafeng Wood (Suzhou) Co., Ltd. will apply for assessment purposes only.

⁹ On September 30, 2014, the Department determined that Linyi Youyou Wood Co., Ltd. is the successor-in-interest to Shanghai Lizhong Wood Products Co., Ltd./The Lizhong Wood Industry Limited Company of Shanghai. See Multilayered Wood Flooring From the People's Republic of China: Final Results of Changed Circumstances Review, 79 FR 58740 (September 30, 2014). Because Shanghai Lizhong Wood Products Co., Ltd./The Lizhong Wood Industry Limited Company of Shanghai no longer exists as a legal entity, the rate assigned to Shanghai Lizhong Wood Products Co., Ltd./The Lizhong Wood Industry Limited Company of Shanghai will apply for assessment purposes only.

Disclosure and Public Comment

The Department intends to disclose calculations performed for these preliminary results to the parties within five days of the date of publication of this notice.¹⁰ Interested parties may submit a case brief no later than 30 days after the date of publication of these preliminary results of review.¹¹ Rebuttal briefs may be filed no later than five days after the deadline for filing case briefs and may respond only to arguments raised in the case briefs.¹² A table of contents, list of authorities used, and an executive summary of issues should accompany any briefs submitted to the Department.¹³ This summary should be limited to five pages total, including footnotes. Interested parties who wish to request a hearing must submit a written request to the Assistant Secretary for Enforcement and Compliance, U.S. Department of Commerce, within 30 days after the date of publication of this notice.¹⁴ Requests should contain the party's name, address, and telephone number, the number of participants, and a list of the issues to be discussed. If a request for a hearing is made, the Department intends to hold the hearing at the U.S. Department of Commerce, 14th Street and Constitution Avenue NW., Washington, DC 20230, at a time to be determined.¹⁵ Parties should confirm by telephone the date, time, and location of the hearing two days before the scheduled date.

¹⁰ See 19 CFR 351.224(b).

¹¹ See 19 CFR 351.309(c)(1)(ii).

¹² See 19 CFR 351.309(d).

¹³ See 19 CFR 351.309(c)(2) and (d)(2).

¹⁴ See 19 CFR 351.310(c).

¹⁵ See 19 CFR 351.310(d).

All submissions, with limited exceptions, must be filed electronically using ACCESS. An electronically filed document must be received successfully in its entirety by 5 p.m. Eastern Time (“ET”) on the due date. Documents excepted from the electronic submission requirements must be filed manually (i.e., in paper form) with the APO/Dockets Unit in Room 1870 and stamped with the date and time of receipt by 5 p.m. ET on the due date.¹⁶

¹⁶ See Antidumping and Countervailing Duty Proceedings: Electronic Filing Procedures; Administrative Protective Order Procedures, 76 FR 39263 (July 6, 2011).

Unless extended, the Department intends to issue the final results of this administrative review, which will include the results of its analysis of issues raised in any briefs, within 120 days of publication of these preliminary results, pursuant to section 751(a)(3)(A) of the Act.

Assessment Rates

Upon issuance of the final results, the Department will determine, and CBP shall assess, antidumping duties on all appropriate entries covered by this review.¹⁷ The Department intends to issue assessment instructions to CBP 15 days after the publication date of the final results of this review. For any individually examined respondent whose weighted-average dumping margin is above de minimis (i.e., 0.50 percent) in the final results of this review, the Department will calculate an importer- (or customer-) specific assessment rate on the basis of the ratio of the total amount of antidumping duties calculated for the importer's examined sales and the total entered value of sales, in accordance with 19 CFR 351.212(b)(1). In these preliminary results, the Department applied the assessment rate calculation method adopted in the Final Modification for Reviews.¹⁸ Where either the respondent's weighted-average dumping margin is zero or de minimis, or an importer- (or customer-) specific assessment rate is zero or de minimis, we will instruct CBP to liquidate the appropriate entries without regard to antidumping duties.¹⁹ We intend to instruct CBP to liquidate entries containing subject merchandise exported by the PRC-wide entity at the current rate for the PRC-wide entity (which, as noted above, is not subject to change in this review).

¹⁷ See 19 CFR 351.212(b)(1).

¹⁸ See Antidumping Proceeding Calculation of the Weighted-Average Dumping Margin and Assessment Rate in Certain Antidumping Duty Proceedings; Final Modification, 77 FR 8101 (February 14, 2012) (“Final Modification for Reviews”).

¹⁹ See 19 CFR 351.106(c)(2).

On October 24, 2011, the Department announced a refinement to its assessment practice in NME antidumping duty cases.²⁰ Pursuant to this refinement in practice, for merchandise that was not reported in the U.S. sales databases submitted by an exporter individually examined during this review, but that entered under the case number of that exporter (i.e., at the individually-examined exporter's cash deposit rate), the Department will instruct CBP to liquidate such entries at the PRC-wide rate. Additionally, pursuant to this refinement, if the Department determines that an exporter under review had no shipments of the subject merchandise, any suspended entries that entered under that exporter's case number will be liquidated at the PRC-wide rate.

²⁰ See Non-Market Economy Antidumping Proceedings: Assessment of Antidumping Duties, 76 FR 65694 (October 24, 2011), for a full discussion of this practice.

Cash Deposit Requirements

The following cash deposit requirements will be effective upon publication of the final results of this administrative review for shipments of the subject merchandise from the PRC entered, or withdrawn from warehouse, for consumption on or after the publication date, as provided by section 751(a)(2)(C) of the Act: (1) For the companies listed above the cash deposit rate will be their respective rate established in the final results of this review, except if the rate is zero or de minimis (i.e., less than 0.5 percent), then the cash deposit rate will be zero; (2) for previously investigated PRC and non-PRC exporters not listed above that have separate rates, the cash deposit rate will continue to be the exporter-specific rate published for the most recent period; (3) for all PRC exporters of subject merchandise which have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification to Interested Parties

We are issuing and publishing these results in accordance with sections 751(a)(1) and 777(i)(1) of the Act and 19 CFR 351.213.

Dated: December 31, 2015.
Paul Piquado,
Assistant Secretary for Enforcement and Compliance.

Appendix—List of Topics Discussed in the Preliminary Decision Memorandum

1. Summary

2. Background

3. Period of Review

4. Extension of Preliminary Results

5. Scope of the Order

6. Selection of Respondents

7. Non-Market Economy Country

8. Separate Rate

9. Surrogate Country and Surrogate Value Data

10. Date of Sale

11. Fair Value Comparisons

12. Affiliation and Single Entity Status

13. U.S. Price

14. Value Added Tax

15. Normal Value

16. Factor Valuations

17. Adjustment Under Section 777(A)(f) of the Act

18. Currency Conversion

19. Recommendation

[FR Doc. 2016-00180 Filed 1-7-16; 8:45 am]

BILLING CODE 3510-DS-P